DEPARTMENT OF TRANSPORTATION

Office of the Secretary

Notice of Applications for Certificates of Public Convenience and Necessity and Foreign Air Carrier Permits Filed Under Subpart B (Formerly Subpart Q) During the Week Ending February 15, 2014

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT- OST-2014-0019.

Date Filed: February 10, 2014.

Due Date for Answers, Conforming Applications, or Motion to Modify Scope: March 3, 2014.

Description: Application of Azerbaijan Airlines requesting a foreign air carrier permit and exemption authority to engage in (1) scheduled air transportation of passengers, property and mail between any point or points in Azerbaijan, via intermediate points, and any point or points in the United States; and (2) charter air transportation of passengers, property and mail between any point or points in Azerbaijan and any point or points in the United States, as well as any point or points in the United States and any point or points in a third country or countries subject to pertinent national, bilateral and international rules and regulations.

Docket Number: DOT-OST-2014-0020.

Date Filed: February 10, 2014.

Due Date for Answers, Conforming Applications, or Motion to Modify Scope: March 3, 2014.

Description: Application of Gem Air LLC requesting authority to operate scheduled passenger service as a commuter air carrier between Salmon, ID and Boise, ID.

Docket Number: DOT-OST-2014-0021.

Date Filed: February 12, 2014.

Due Date for Answers, Conforming Applications, or Motion to Modify Scope: March 5, 2014.

Description: Application of North Cariboo Flying Service Ltd. requesting an amended foreign air carrier permit and an exemption to engage in on-demand large aircraft charter transportation of passengers and property between points(s) in Canada and point(s) in the United States, as well as other charters.

Barbara J. Hairston,
Supervisory Dockets Officer, Docket Operations, Federal Register Liaison.

[FR Doc. 2014-05618 Filed 3-13-14; 8:45 am]

BILLING CODE 4910-9XP